DEPARTMENT OF COMMERCE

International Trade Administration

[A-570-928]

Uncovered Innerspring Units From the People's Republic of China: Final Results of Antidumping Duty Administrative Review; 2021-2022

AGENCY: Enforcement and Compliance, International Trade Administration, Department of Commerce.

SUMMARY: The U.S. Department of Commerce (Commerce) continues to determine that Bomei Tex Ltd. (Bomei) and Saffron Living Co., Ltd. (Saffron Living), the two companies subject to this administrative review of the antidumping duty (AD) order on uncovered innerspring units (innersprings) from the People's Republic of China (China), are part of the China-wide entity. The period of review (POR) is February 1, 2021, through January 31, 2022.

DATES: Applicable February 6, 2023.

FOR FURTHER INFORMATION CONTACT: Christopher Maciuba, AD/CVD Operations, Office V, Enforcement and Compliance, International Trade Administration, U.S. Department of Commerce, 1401 Constitution Avenue NW, Washington, DC 20230; telephone: (202) 482-0413.

SUPPLEMENTARY INFORMATION:

Background

Commerce published the preliminary results of this administrative review on October 25, 2022.¹ We invited interested parties to comment on the Preliminary Results. No party submitted comments. Accordingly, the final results are unchanged from the Preliminary Results. Commerce conducted this administrative review in accordance with section 751 of the Tariff Act of 1930, as amended (the Act).

¹ See Uncovered Innerspring Units from the People's Republic of China: Preliminary Results of Antidumping Duty Administrative Review; 2021-2022, 87 FR 64435 (October 25, 2022) (Preliminary Results).

Scope of the Order ²

² See Uncovered Innerspring Units from the People's Republic of China: Notice of Antidumping Duty Order, 74 FR 7661 (February 19, 2009) (Order).

The merchandise subject to the Order is uncovered innerspring units. For a full description of the scope of the Order, see Preliminary Results.³

³ See Preliminary Results, 87 FR at 64435-36.

Final Results of Administrative Review

We received no comments on, and made no changes to, the Preliminary Results. We continue to find that neither Bomei nor Saffron Living filed a no-shipment certification, a separate rate application, or a separate rate certification. Thus, Commerce continues to determine that these companies have not demonstrated their eligibility for separate rate status and, therefore, we determine that these companies are part of the China-wide entity.

Because no party requested a review of the China-wide entity, and we did not self-initiate a review, the China-wide entity rate (i.e., 234.51 percent) is not subject to change as a result of this review.⁴

⁴ See Order, 74 FR at 7662.

Assessment Rates

Commerce will determine, and U.S. Customs and Border Protection (CBP) shall assess, antidumping duties on all appropriate entries covered by this review in accordance with section 751(a)(2)(C) of the Act. For Bomei and Saffron Living, we will instruct CBP to apply the China-wide rate of 234.51 percent to all entries of subject merchandise during the POR. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of the subject merchandise entered, or withdrawn from warehouse, for consumption on or after the publication date of the final results of review, as provided for by section 751(a)(2)(C) of the Act: (1) for previously investigated or reviewed Chinese and non-Chinese exporters who are not under review in this segment of the proceeding but have separate rates, the cash deposit rate will continue to be the exporter-specific rate published for the most recent period; (2) for all Chinese exporters of subject merchandise that have not been found to be entitled to a separate rate (including Bomei and Saffron Living), the cash deposit rate will be the China-wide rate of 234.51 percent; and (3) for all non-Chinese exporters of subject merchandise which have not received their own rate, the cash deposit rate will be the rate applicable to Chinese exporter(s) that supplied that non-Chinese exporter. These deposit requirements, when imposed, shall remain in effect until further notice.

Notification to Importers

This notice also serves as a reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Orders

This notice also serves as the only reminder to parties subject to administrative protective order (APO) of their responsibility concerning the return or destruction of proprietary information disclosed under APO in accordance with 19 CFR 351.305(a)(3), which continues to govern business proprietary information in this segment of the proceeding. Timely written notification of the return or destruction of APO, or conversion to judicial protective order, is hereby requested. Failure to comply with the regulations and terms of an APO is a violation which is subject to sanction.

Notification to Interested Parties

We are issuing and publishing these final results of administrative review in accordance with sections 751(a)(1) and 777(i)(1) of the Act, and 19 CFR 351.213(h) and 351.221(b)(5).

Dated: January 30, 2023.
Lisa W. Wang,
Assistant Secretary for Enforcement and Compliance.

[FR Doc. 2023-02385 Filed 2-3-23; 8:45 am]

BILLING CODE 3510-DS-P